DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: November 19, 2015, 10:00 a.m.

PLACE: Room 2C, 888 First Street NE., Washington, DC 20426.

STATUS: Open.

MATTERS TO BE CONSIDERED: Agenda * Note—Items listed on the agenda may be deleted without further notice.

CONTACT PERSON FOR MORE INFORMATION: Kimberly D. Bose, Secretary, Telephone (202) 502-8400. For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

1021ST—Meeting, Regular Meeting, November 19, 2015, 10:00 a.m.
Item No. | Docket No. | Company
Administrative
A-1 | AD16-1-000 | Agency Administrative Matters.
A-2 | AD16-7-000 | Customer Matters, Reliability, Security and Market Operations.
A-3 | AD07-13-009 | 2015 Report on Enforcement.
A-4 | AD16-12-000 | Energy Storage Panel.
Electric
E-1 | RM15-2-000 | Third-Party Provision of Primary Frequency Response Service.
E-2 | AD14-14-000 | Price Formation in Energy and Ancillary Services Markets Operated by Regional Transmission Organizations and Independent System Operators.
E-3 | RM16-1-000 | Reactive Power Requirements for Non-Synchronous Generation.
E-4 | ER15-861-004 | California Independent System Operator Corporation.
E-5 | ER15-2281-000, ER15-2282-001, ER15-2283-000 | Nevada Power Company, Sierra Pacific Power Company, PacifiCorp.
E-6 | OMITTED
E-7 | RM15-3-001 | Revisions to Public Utility Filing Requirements.
E-8 | RM11-12-001 | Availability of E-Tag Information to Commission Staff.
E-9 | RM15-7-000 | Revisions to Emergency Operations Reliability Standards.
| RM15-12-000 | Revisions to Undervoltage Load Shedding Reliability Standards.
| RM15-13-000 | Revisions to the Definition of “Remedial Action Scheme” and Related Reliability Standards.
E-10 | RM15-16-000 | Transmission Operations Reliability Standards and Interconnection Reliability Operations and Coordination Reliability Standards.
E-11 | ER11-4081-001 | Midwest Independent Transmission System Operator, Inc.
E-12 | ER11-4081-002 | Midwest Independent Transmission System Operator, Inc.
E-13 | ER15-698-000 | Northern States Power Company, a Minnesota corporation.
| ER15-698-001 | Northern States Power Company, a Wisconsin corporation.
E-14 | ER15-2292-000 | Idaho Power Company.
E-15 | ER12-2399-003 | PJM Interconnection, L.L.C. and American Transmission Systems, Inc.
E-16 | OMITTED
E-17 | ER15-2260-001, EL14-24-000 | PJM Interconnection, L.L.C.
E-18 | EL14-26-000 | New York Independent System Operator, Inc.
E-19 | EL14-23-000 | ISO New England Inc.
E-20 | ER15-2295-000 | Southwest Power Pool, Inc.
E-21 | OMITTED
E-22 | ER15-572-003 | New York Transco, LLC.
E-23 | ER15-2550-000 | Rancho Cucamonga Municipal Utility.
E-24 | ER15-2588-000 | Eastside Power Authority.
E-25 | ER12-39-000, ER12-39-001 | Seminole Electric Cooperative, Inc. and Florida Municipal Power Agency v. Florida Power Corporation.
| EL13-63-000, EL13-63-001, EL14-90-000 | Seminole Electric Cooperative, Inc. and Florida Municipal Power Agency v. Duke Energy Florida, Inc.
| ER13-1356-000, ER13-1356-001, ER14-1832-000, ER15-1618-000 | Duke Energy Florida, Inc.
E-26 | EL08-14-010 | Black Oak Energy, L.L.C., EPIC Merchant Energy, L.P. and SESCO Enterprises, L.L.C. v. PJM Interconnection, L.L.C.
E-27 | ER12-1384-001, ER12-1385-002, ER12-1386-001, ER12-1387-001, ER12-1388-001, ER12-1390-001, EL11-57-002, (Consolidated) | Entergy Arkansas, Inc., Entergy Gulf States Louisiana, L.L.C., Entergy Louisiana, LLC, Entergy Mississippi, Inc., Entergy New Orleans, Inc., Entergy Texas, Inc., Louisiana Public Service Commission v. Entergy Corporation, Entergy Services, Inc., Entergy Louisiana, LLC, Entergy Arkansas, Inc., Entergy Mississippi, Inc., Entergy New Orleans, Inc., Entergy Gulf States Louisiana, LLC, and Entergy Texas, Inc.
E-28 | ER10-2001-004 | Entergy Services, Inc.
E-29 | ER10-2156-004 | Consumers Energy Company.
E-30 | ER12-1653-005 | New York Independent System Operator, Inc.
E-31 | ER15-2272-000 | California Independent System Operator Corporation.
E-32 | ER14-2017-001 | California Independent System Operator Corporation.
E-33 | EL15-83-000 | Joint Consumer Representatives v. PJM Interconnection, L.L.C.
E-34 | EL10-55-002 | Louisiana Public Service Commission v. Entergy Corporation, Entergy Services, Inc., Entergy Louisiana, L.L.C., Entergy Arkansas, Inc., Entergy New Orleans, Inc., Entergy Mississippi, Inc., Entergy Gulf States Louisiana, LLC, and Entergy Texas, Inc.
E-35 | EL15-32-001 | North Carolina Waste Awareness and Reduction Network, Inc. v. Duke Energy Carolinas, LLC and Duke Energy Progress, Inc.
E-36 | EL15-47-001 | NextEra Desert Center Blythe, LLC v. California Independent System Operator Corporation.
E-37 | EL10-86-004 | Jeffers South, LLC v. Midwest Independent Transmission System Operator, Inc.
E-38 | EL12-98-001, EL12-98-002 | Hudson Transmission Partners, LLC v. New York Independent System Operator, Inc.
E-39 | EL15-25-001 | New England Power Generators Association, Inc. v. ISO New England Inc.
E-40 | EL15-62-000 | Chevron U.S.A. Inc.
E-41 | EF15-8-000 | Western Area Power Administration.
E-42 | OMITTED
E-43 | TS15-1-000 | City of Alexandria, Louisiana.
E-44 | ER05-1056-009 | Chehalis Power Generating, L.P.
E-45 | ER14-1050-002, EL14-52-001 | ISO New England Inc. and New England Power Pool.
E-46 | ER14-2419-003, EL14-52-002 | ISO New England Inc.
E-47 | ER15-2623-000, ER15-2625-000 | Nevada Power Company.
Gas
G-1 | RP15-1022-001 | Alliance Pipeline L.P.
G-2 | IS14-607-000, IS14-608-000, IS14-609-000, IS14-610-000 | Zydeco Pipeline Company LLC.
G-3 | IS09-348-004, IS09-395-004, IS10-204-002, IS10-491-000, IS09-348-006, IS09-395-006, IS10-204-004, IS10-491-003 | BP Pipelines (Alaska) Inc.
| IS09-384-004, IS10-205-003, IS10-476-001, IS09-384-006, IS10-205-005, IS10-476-003 | ConocoPhillips Transportation Alaska Inc.
| IS09-391-004, IS09-177-005, IS10-200-002, IS10-547-000, IS09-391-006, IS09-177-007, IS10-200-004, IS10-547-002 | ExxonMobil Pipeline Company.
| IS09-176-004, IS07-41-005, IS08-53-005, IS10-52-001, OR10-3-001, IS10-490-000, IS11-3-000, IS09-176-006, IS07-41-007, IS08-53-007, IS10-52-003, OR10-3-004, IS10-490-002 , IS11-3-002 | Unocal Pipeline Company.
| IS10-54-001, IS10-496-000, IS10-54-003, IS10-496-003 | Koch Alaska Pipeline Company, L.L.C.
G-4 | OR15-53-000 | Enterprise TE Products Pipeline Company LLC.
G-5 | TS13-3-001 | KPC Pipeline, LLC.
Hydro
H-1 | P-13351-021 | Marseilles Land and Water Company.
H-2 | P-6142-008 | Kevin Drone.
H-3 | P-2106-068 | Pacific Gas and Electric Company.
H-4 | P-5-101 | Confederated Salish and Kootenai Tribes Energy Keepers, Incorporated.
H-5 | P-2280-020 | Seneca Generation, LLC.
H-6 | P-14628-006 | Minneapolis Leased Housing Associates IV, Limited Partnership.
H-7 | HB81-09-2-003, P-12252-033 | Hudson River-Black River Regulating District.
| P-13-032 | Green Island Power Authority and Albany Engineering Corp.
| P-2047-059, P-2318-052, P-2482-099, P-2554-072 | Erie Boulevard Hydropower L.P.
| P-2385-028 | FH Opco LLC.
| P-2609-045 | Curtis/Palmer Hydroelectric Co.
| P-2934-027 | New York State Electric & Gas Corp.
| P-4226-006 | Fort Miller Associates.
| P-4684-069 | GR Catalyst One., LLC,.
| P-5276-063 | Northern Electric Power Co. and Niagara Mohawk Power Corp.
| P-5461-050 | South Glens Falls Limited Partnership and Niagara Mohawk Power Corp.
| P-6032-074 | Albany Engineering Corp.
H-8 | P-1025-086 | Safe Harbor Water Power Corporation.
Certificates
C-1 | OMITTED
C-2 | CP11-161-002 | Tennessee Gas Pipeline, L.L.C.
C-3 | CP15-100-000 | National Fuel Gas Supply Corporation and National Fuel Gas Supply, LLC.
C-4 | CP14-555-000 | Dominion Transmission, Inc.
C-5 | CP14-513-001 | Impulsora Pipeline, LLC.

Issued: November 12, 2015.
Nathaniel J. Davis, Sr.,
Deputy Secretary.

A free webcast of this event is available through www.ferc.gov. Anyone with Internet access who desires to view this event can do so by navigating to www.ferc.gov' s Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2015-29509 Filed 11-16-15; 11:15 am]

BILLING CODE 6717-01-P